DEPARTMENT OF COMMERCE

International Trade Administration

[A-475-834]

Certain Carbon and Alloy Steel Cut-To-Length Plate From Italy: Amended Final Results of Antidumping Duty Administrative Review; 2022-2023

AGENCY: Enforcement and Compliance, International Trade Administration, Department of Commerce.

SUMMARY: The U.S. Department of Commerce (Commerce) is amending the final results of the administrative review of the antidumping duty (AD) order on certain carbon and alloy steel cut-to-length plate (CTL plate) from Italy to correct a ministerial error. The period of review (POR) is May 1, 2022, through April 30, 2023.

DATES: Applicable June 28, 2024.

FOR FURTHER INFORMATION CONTACT: Sean Grossnickle, AD/CVD Operations, Office II, Enforcement and Compliance, International Trade Administration, U.S. Department of Commerce, 1401 Constitution Avenue NW, Washington, DC 20230; telephone: (202) 482-3818.

SUPPLEMENTARY INFORMATION:

Background

On June 7, 2024, Commerce published in the Federal Register the Final Results of the 2022-2023 administrative review of the AD order on CTL plate from Italy.¹ On June 5, 2024, Commerce disclosed its calculations and provided interested parties with the opportunity to submit ministerial error comments.² On June 10, 2024, NLMK Verona S.p.A. (NVR), a mandatory respondent in this review, submitted a timely ministerial error allegation.³ No other party submitted a ministerial error allegation or rebutted NVR's ministerial error allegation. We are amending the Final Results to correct the ministerial error alleged by NVR.

¹ See Certain Carbon and Alloy Steel Cut-To-Length Plate from Italy: Final Results of Antidumping Duty Administrative Review; 2022-2023, 89 FR 48562 (June 7, 2024) (Final Results).

² See Memorandum, “Deadline for Ministerial Error Comments,” dated June 5, 2024.

³ See NVR's Letter, “Ministerial Error Comments,” dated Juene 10, 2024 (NVR's Ministerial Error Allegation).

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate . . . correct any ministerial error by amending . . . the final results of review.”

Ministerial Error

In the Final Results, Commerce made an inadvertent error within the meaning of section 751(h) of the Act and 19 CFR 351.224(f) with respect to the treatment of home market sales made during the “window period,” of three months before the POR and two months after the POR. Accordingly, pursuant to 19 CFR 351.224(e), Commerce is amending the Final Results to correct for this ministerial error.⁴ This correction results in a change to NVR's weighted-average dumping margin. For a complete description and analysis of the specific inadvertent error, and NVR's ministerial error allegation, see the accompanying Ministerial Error Allegation Memorandum.⁵ The Ministerial Error Allegation Memorandum is a public document and is on file electronically via Enforcement and Compliance's Antidumping and Countervailing Duty Centralized Electronic Service System (ACCESS). ACCESS is available to registered users at https://access.trade.gov.

⁴ See Memorandum, “Administrative Review of the Antidumping Duty Order on Certain Carbon and Alloy Steel Cut-To- Length Plate from Italy; 2022-2023: Allegation of Ministerial Error in the Final Results,” dated concurrently with this notice (Ministerial Error Allegation Memorandum).

⁵ Id.

Amended Final Results of Review

As a result of correcting the ministerial error described above, we determine that the following estimated weighted-average dumping margin exists for the period May 1, 2022, through April 30, 2023:

Exporter/producer | Weighted- average dumping margin (percent)
NLMK Verona S.p.A | 15.63

Disclosure

Commerce intends to disclose the calculations performed in connection with these amended final results of review to interested parties within five days after public announcement of the amended final results or, if there is no public announcement, within five days of the date of publication of the notice of amended final results in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with these amended final results of review.

Pursuant to 19 CFR 351.212(b)(1), for NVR, we calculated importer-specific ad valorem AD assessment rates based on the ratio of the total amount of dumping calculated for the examined sales for each importer to the total entered value of the sales for each importer. Where an importer-specific AD assessment rate is zero or de minimis, within the meaning of 19 CFR 351.106(c)(1), Commerce will instruct CBP to liquidate the appropriate entries without regard to antidumping duties.

For entries of subject merchandise during the POR produced by NVR for which it did not know that its merchandise was destined for the United States, we will instruct CBP to liquidate such entries at the all-others rate established in the less-than-fair-value (LTFV) investigation of 6.08 percent ad valorem,⁶ if there is no rate for the intermediate company(ies) involved in the transaction.

⁶ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096, 24098 (May 25, 2017) (Order).

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following amended cash deposit requirements will be effective retroactively upon publication of the amended final results of this administrative review in the Federal Register, for all shipments of the subject merchandise entered, or were withdrawn from warehouse, for consumption on or after June 7, 2024, the publication date of the Final Results, as provided by section 751(a)(2)(C) of the Act: (1) the amended cash deposit rate for NVR will be equal to the weighted-average dumping margin established in these amended final results of this review, except if the rate is less than 0.50 percent and, therefore, de minimis within the meaning of 19 CFR 351.106(c)(1), in which case the cash deposit rate will be zero; (2) for merchandise exported by companies not covered in this review but covered in a prior segment of this proceeding, the cash deposit rate will continue to be the company-specific rate published in the completed segment for the most recent period; (3) if the exporter is not a firm covered in this review, a prior review, or the original LTFV investigation, but the producer is, then the cash deposit rate will be the rate established in the completed segment for the most recent period for the producer of the merchandise; and (4) the cash deposit rate for all other producers or exporters will continue to be 6.08 percent, the all-others rate established in the LTFV investigation.⁷ These cash deposit requirements, when imposed, shall remain in effect until further notice.

⁷ Id.

Notification to Importers

This notice also serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Administrative Protective Order

This notice also serves as the only reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation which is subject to sanction.

Notification to Interested Parties

We are issuing and publishing these results in accordance with sections 751(h) and 777(i)(1) of the Act, and 19 CFR 351.224(e).

Dated: June 24, 2024.
Ryan Majerus,
Deputy Assistant Secretary for Policy and Negotiations, performing the non-exclusive functions and duties of the Assistant Secretary for Enforcement and Compliance.

[FR Doc. 2024-14314 Filed 6-27-24; 8:45 am]

BILLING CODE 3510-DS-P